CONSUMER PRODUCT SAFETY COMMISSION

Sunshine Act Meeting

Federal Register Citation of Previous Announcement: Vol. 67, No. 202, Friday, October 18, 2002, page 664354.

Previously Announced Time and Date of Meeting: 10:00 a.m., Thursday, October 24, 2002.

Changes in Meeting: The Commission briefing regarding Petition HP 99-1 requesting a ban of polyvinyl chloride (PVC) in all toys and other products intended for children five years of age and under was canceled.

For a recorded message containing the latest agenda information, call (301) 504-0709.

FOR FURTHER INFORMATION CONTACT: Todd A. Stevenson, Office of the Secretary, 4330 East West Highway, Bethesda, MD 20207 (301) 504-0800.

Dated: October 28, 2002.
Todd A. Stevenson,
Secretary.

[FR Doc. 02-27742 Filed 10-28-02; 2:36 pm]

BILLING CODE 6355-01-M